DEPARTMENT OF COMMERCE

International Trade Administration

[A-570-888]

Floor-Standing Metal-Top Ironing Tables and Certain Parts Thereof from the People's Republic of China: Extension of Time Limit for Final Results of Administrative Review

AGENCY: Import Administration, International Trade Administration, Department of Commerce.

EFFECTIVE DATE: January 5, 2009.

FOR FURTHER INFORMATION CONTACT: Michael Heaney or Robert James, AD/CVD Operations, Office 7, Import Administration, International Trade Administration, U.S. Department of Commerce, 14th Street and Constitution Avenue NW, Washington, DC 20230; telephone: (202) 482-4475 or (202) 482-0649, respectively.

SUPPLEMENTARY INFORMATION: On September 9, 2008, the Department of Commerce (the Department) published the preliminary results of its 2006-2007 administrative review of the antidumping duty order of floor-standing, metal-top ironing tables and certain parts thereof from the People's Republic of China. See Floor-Standing, Metal-Top Ironing Tables and Certain Parts Thereof From the People's Republic of China: Preliminary Results of Antidumping Duty Administrative Review 73 FR 52277 (September 9, 2008). The current deadline for the final results of this review is January 7, 2009.

Extension of Time Limit for Final Results

Section 751(a)(3)(A) of the Tariff Act of 1930, as amended (the Act) requires the Department to issue the final results of this administrative review within 120 days after the date on which the preliminary results were published in the Federal Register. However, if it is not practicable to complete the review within this time period, the Department may extend the time period to issue the final results. See section 751(a)(3)(A) of the Act and 19 CFR 351.213(h)(1).

The Department finds that it is not practicable to complete this review within the original time frame. In order to fully evaluate the issues raised by Petitioner (Home Products International) in its case brief concerning respondent Since Hardware's claimed purchases of inputs from market economy suppliers, we are extending the time frame for completion of this review.

Consequently, in accordance with section 751(2)(3)(A) of the Tariff Act and 19 CFR 351.213(h)(2), the Department is extending the time period for issuing the final results of review by 60 days. Therefore, the final results will be due no later than March 8, 2009. As March 8, 2009 falls on a Sunday, our final results will be issued no later than Monday March 9, 2009.

This notice is published in accordance with section 771(i) of the Act.

Dated: December 29, 2008.
Gary Taverman,
Acting Deputy Assistant Secretary for Import Administration.

[FR Doc. E8-31361 Filed 1-2-09; 8:45 am]

BILLING CODE 3510-DS-S